DEPARTMENT OF VETERANS AFFAIRS

Fund Availability Under the Grants for Transportation of Veterans in Highly Rural Areas Program

AGENCY: Department of Veterans Affairs.

ACTION: Notice of Funding Availability (Grant Renewals).

SUMMARY: The Department of Veterans Affairs (VA) is announcing the availability of funds under the Grants for Transportation of Veterans in Highly Rural Areas program. This Notice of Funding Availability (Notice) contains information concerning the Grants for Transportation of Veterans in Highly Rural Areas program, grant renewal application process, and amount of funding available.

DATES: Applications for assistance under the Grants for Transportation of Veterans in Highly Rural Areas Program must be submitted to www.grants.gov by 4:00 p.m. Eastern Daylight Time on August 18, 2017. In the interest of fairness to all competing applicants and with the single exception described below regarding unforeseen technical problems beyond the control of the applicant with the grants.gov Web site, this deadline is firm as to date and hour, and VA will not consider any application that is received after the deadline. Applicants should take this practice into account and make early submission of their materials to avoid any risk of loss of eligibility brought about by unanticipated delays, computer service outages (in the case of grants.gov), or other delivery-related problems.

ADDRESSES:

Access to the Application

The application can be found at http://www.grants.gov/web/grants/search-grants.html, utilizing the “search by Catalog of Federal Domestic Assistance number” function, and entering in that search field the number 64.035. Questions should be referred to the Veterans Transportation Program Office at (404) 828-5380 (this is not a toll-free number) or by email at HRTG@va.gov. For further information on Grants for Transportation of Veterans in Highly Rural Areas program requirements, see the Final Rule published in the Federal Register (78 FR 19586) on April 2, 2013, which is codified in 38 CFR 17.700-730.

Submission of Application Package

Applications may not be sent by facsimile. Applications must be submitted to www.grants.gov by the application deadline. Applications must be submitted as a complete package. Materials arriving separately will not be included in the application package for consideration and may result in the application being rejected. All applicable forms cited in the application description must be included.

FOR FURTHER INFORMATION CONTACT: Darren Wallace, National Coordinator, Highly Rural Transportation Grants, Veterans Transportation Program, Member Services (10NF4), 2957 Clairmont Road, Atlanta, GA 30329; (404) 828-5380 (this is not a toll-free number); and Sylvester Wallace at sylvester.wallace2@va.gov.

SUPPLEMENTARY INFORMATION:

Funding Opportunity Description

Overview: Access to VA care for veterans that are in highly rural areas continues to be an issue across the United States. VA has established this program to help address barriers to access to care. This program funds innovative approaches to transporting veterans in highly rural areas who typically have longer commute times to Department of Veterans Affairs medical centers (VAMC).

Announcement Type: Notice of Funding Availability (Grant Renewals).

Funding Opportunity Number: VA-HRTG-2017.

Catalog of Federal Domestic Assistance (CFDA) Number: 64.035.

Purpose: VA Veterans Transportation Program (VTP) is pleased to announce that it is seeking grant renewal applications for Grants for Transportation of Veterans in Highly Rural Areas. This program furthers the Department's mission by offering renewal grants to current grantees to enable them to continue to assist veterans in highly rural areas through innovative transportation services to travel to VAMCs and to otherwise assist in providing transportation services in connection with the provision of VA medical care to these veterans.

Authority: Funding applied for under this Notice is authorized by section 307 of the Caregivers and Veterans Omnibus Health Services Act of 2010, Public Law 111-163, (the 2010 Act), as implemented by regulations at 38 CFR 17.700-730, Grants for Transportation of Veterans in Highly Rural Areas. Funds made available under this Notice are subject to the requirements of the aforementioned regulations and other applicable laws and regulations.

Award Information: In accordance with 38 CFR 17.710, VA is issuing this Notice for renewal grants under the Grants for Transportation of Veterans in Highly Rural Areas program for fiscal year 2017. Approximately $2 million is authorized to be appropriated for this fiscal year. If additional funding becomes available, VA will issue additional Notices of Funding Availability to permit other grantees to apply for grants under the program (in accordance with the terms and conditions of such Notices of Funding Availability). The following requirements apply to grants awarded under this Notice:

• One renewal grant may be awarded to each grantee for fiscal year 2017 for each highly rural area in which the grantee provides transportation services. (A listing of the highly rural counties can be found at this Web site under additional resources: http://www.va.gov/HEALTHBENEFITS/vtp/grant_applicants.asp)

• Transportation services may not be simultaneously provided by more than one grantee in any single highly rural area.

• No single grant will exceed $50,000.

• A veteran who is provided transportation services through a grantee's use of these grant monies will not be charged for such services.

• Renewal grants awarded under this Notice will be for a 1-year period.

• All awards are subject to the availability of appropriated funds and to any modifications or additional requirements that may be imposed by law.

Eligibility Information

Eligible Applicants

Current 2016 program grantees are the only eligible entities that are eligible to apply for a renewal grant. Interested eligible entities must submit a complete renewal grant application package to be considered for a grant renewal. Further, a renewal grant will only be awarded if the grantee's program will remain substantially the same as the program for which the original grant was awarded. How the grantee will meet this requirement must be specifically addressed in the renewal grant application.

Cost Sharing or Matching

This solicitation does not require grantees to provide matching funds as a condition of receiving such grants.

Other

Additional grant application requirements are specified in the application package. Submission of an incorrect or incomplete application package will result in the application being rejected during the threshold review, the initial review conducted by VA to ensure the application package contains all required forms and certifications. Complete packages will then be subject to the evaluation/scoring and selection processes described in § 17.705(c) and (d), respectively. Applicants will be notified of any additional information needed to confirm or clarify information provided in the renewal grant application and the deadline by which to submit such information.

Application and Submission Information

Renewal applications will be submitted through grants.gov. Grants.gov is a “one-stop storefront” that provides a unified process for all customers of Federal awards to find funding opportunities and apply for funding. Complete instructions on how to register and submit a renewal grant application can be found at www.grants.gov. If the applicant experiences technical difficulties at any point during this process, please call the grants.gov customer support hotline at 1-800-518-4726, 24 hours a day, 7 days a week, except Federal holidays.

Registration in grants.gov is required prior to submission. VA strongly encourages registering with grants.gov several weeks before the deadline for application submission. The deadline for applying for funding under this announcement is [30 days after publication].

Search for the funding opportunity on grants.gov using the following identifying information. The Catalog of Federal Domestic Assistance (CFDA) number for this solicitation is 64.035, titled “Veterans transportation program,” and the funding opportunity number is VA-HRTG-2017.

Submit an application consistent with this solicitation by following the directions in grants.gov. Within 24-48 hours after submitting the electronic application, the applicant should receive an email validation message from grants.gov. The validation message will state whether the renewal grant application has been received and validated, or rejected, with an explanation. Applicants are urged to submit their applications at least 72 hours prior to the due date of the application to allow time to receive the validation message and to correct any problems that may have caused a rejection notification.

If an applicant experiences unforeseen grants.gov technical issues beyond the applicant's control that prevents submission of its application by the deadline, the applicant must contact the VTP Office staff no later than 24 hours after the deadline and request approval to submit its application. At that time, VTP Office staff will instruct the applicant to submit specific information detailing the technical difficulties. The applicant must email the following: A description of the technical difficulties, a timeline of submission efforts, the complete grant application, the applicant's Data Universal Numbering System (DUNS) number, and grants.gov help desk tracking number(s) received. After the program office reviews all of the information submitted and contacts the grants.gov help desk to validate the technical issues reported, VA will contact the applicant to either approve or deny the request to submit a late application. If the technical issues reported cannot be validated, the application will be rejected as untimely.

To ensure a fair competition for limited discretionary funds, the following conditions are not valid reasons to permit late submissions: (1) Failure to begin the registration process in sufficient time, (2) failure to follow grants.gov instructions on how to register and apply as posted on its Web site, (3) failure to follow all of the instructions in the VA solicitation, and (4) technical issues experienced with the applicant's computer or information technology environment. Notifications regarding known technical problems with grants.gov, if any, are posted on the grants.gov Web site.

Content and Form of Application Submission

This section describes what a renewal application must include. Failure to submit an application that contains all of the specified elements will result in the rejection of the application at the threshold review stage. Moreover, if applications are not adequately responsive to the scope of the solicitation, particularly to any critical element, or fail to include a program narrative, budget detail worksheet including a budget narrative, tribal resolution (if applicable), eligibly entity designation, or a list of the highly rural county or counties to be served, they will be rejected and receive no further consideration.

Threshold Review Criteria: (Critical Elements)

• Interim Final Report: A report of your organization's performance for the last three quarters through June 2017.

• Application deadline: Applications not received by the application deadline through www.grants.gov will not be reviewed.

• Eligibility: Applications that do not conform to the eligibility requirements at the beginning section of this document will not be reviewed.

• Budget detail worksheet including a budget narrative: VA strongly recommends use of appropriately descriptive file names (e.g., “Program Narrative,” “Budget Detail Worksheet and Budget Narrative,” “Timelines,” “Memoranda of Understanding,” “Resumes”) for all attachments. VA recommends that resumes be included in a single file.

• Information to complete the Application for Federal Assistance (SF-424): The SF-424 is a standard form required for use as a cover sheet for submission of pre-applications, applications, and related information. Grants.gov takes information from the applicant's profile to populate the fields on this form.

• Program Narrative: Provide a detailed narrative of your program scope and specifically discuss the innovative modes and methods of transportation services to be provided. If the provision of transportation services will necessitate procurement or use of specific equipment, such equipment must be specifically listed.

Note on project evaluations: Applicants that propose to use funds awarded through this solicitation to conduct project evaluations should be aware that certain project evaluations (such as systematic investigations designed to develop or contribute to knowledge) may constitute research. However, project evaluations that are intended only to generate internal improvements to a program or service, or are conducted only to meet VA's performance measure data reporting requirements, likely do not constitute research. Research, for the purposes of VA-funded programs, is defined as, “a systematic investigation, including research development, testing, and evaluation, designed to develop or contribute to generalizable knowledge.” 38 CFR 16.102(d). In addition, research involving human subjects is subject to certain added protections, as set forth in 38 CFR part 16. Applicants should provide sufficient information for VA to determine whether particular project activities they propose would either intentionally or unintentionally collect and/or use information in such a way that it meets VA's regulatory definition of research and therefore be subject to the requirements and procedures set forth in 38 CFR part 16.

Budget Detail Worksheet and Budget Narrative

Budget Detail Worksheet: A sample SF 424A Budget Detail Worksheet can be found at the grants.gov Web site. Please submit a budget and label it, as the example above indicates. If the budget is submitted in a different format, the budget categories listed in the sample budget worksheet must be included.

Budget Narrative: The Budget Narrative should thoroughly and clearly describe every category of expense listed in the Budget Detail Worksheet. The narrative should be mathematically sound and correspond with the information and figures provided in the Budget Detail Worksheet. The narrative should explain how all costs were estimated and calculated and how they are relevant to the completion of the proposed project. The narrative may include tables for clarification purposes but need not be in a spreadsheet format. As with the Budget Detail Worksheet, the Budget Narrative must be broken down by year. Note: All non-Federal entities have to comply with 2 CFR 200.400-475 Cost Principles and all Office of Management and Budget (OMB) Regulations and Circulars.

Budget Brief (example):

1. Our organization requests ____ for the acquisition of _____ van(s).

2. The total cost of the van(s)____. This is the amount requested from VA.

3. Our organization will utilize ____ for innovative approaches for transporting veterans. This is the amount requested from VA for a maximum of $50,000.

Indirect Cost Rate Agreement (If Applicable)

Indirect costs are allowed only if the applicant has a federally approved indirect cost rate. (This requirement does not apply to units of local government). A copy of the rate approval must be attached. If the applicant does not have an approved rate, one can be requested by contacting the applicant's cognizant Federal agency, which will review all documentation and approve a rate for the applicant organization or, if the applicant's accounting system permits, costs may be allocated in the direct cost categories. If VA is the cognizant Federal agency, obtain information needed to submit an indirect cost rate proposal from the contact person listed in this solicitation.

Tribal Authorizing Resolution (If Applicable)

If an application identifies a subrecipient that is either (1) a tribe or tribal organization or (2) a third party proposing to provide direct services or assistance to residents on tribal lands, then a current authorizing resolution of the governing body of the tribal entity or other enactment of the tribal council or comparable governing body authorizing the inclusion of the tribe or tribal organization and its membership must be included with the application. In those instances when an organization or consortium of tribes proposes to apply for a grant on behalf of a tribe or multiple specific tribes, the application must include a resolution from all tribes that will be included as a part of the services/assistance provided under the grant. A consortium of tribes for which existing consortium bylaws allow action without support from all tribes in the consortium (i.e., without authorizing resolution or other enactment of each tribal governing body) may submit a copy of its consortium bylaws with the application in order to satisfy this requirement.

Submission Dates and Times

Renewal grant applications under the Grants for Transportation of Veterans in Highly Rural Areas program must be submitted to www.grants.gov by 4:00 p.m. Eastern Daylight Time on [30 days after publication]. In the interest of fairness to all competing applicants, this deadline is firm as to date and hour and with the single exception described above regarding unforeseen technical problems beyond the control of the applicant with the grants.gov Web site, VA will treat as ineligible for consideration any application that is received after the deadline. Applicants should take this into account and make early submission of their materials to avoid any risk of loss of eligibility brought about by unanticipated delays, computer service outages (in the case of grants.gov), or other delivery-related problems.

The application can be found at http://www.grants.gov/web/grants/search-grants.html, utilizing the “search by Catalog of Federal Domestic Assistance number” function, and entering in that search field the number 64.035. Questions should be referred to the Veterans Transportation Program Office at (404) 828-5380 (this is not a toll-free number) or by email at HRTG@va.gov. For further information on Grants for Transportation of Veterans in Highly Rural Areas Program requirements, see the governing regulations codified at 38 CFR 17.700-730.

Renewal grant applications may not be sent by facsimile. These applications must be submitted to www.grants.gov by the application deadline; they must also be submitted as a complete package. Materials arriving separately will not be included in the application package for consideration and may result in the application being rejected. All applicable forms cited in the application description must be included.

Intergovernmental Review

Some states require that applicants must contact their State's Single Point of Contact (SPOC) to find out and comply with the State's process, to comply with Executive Order (E.O.) 12372 (1982). Names and addresses of the SPOCs are listed in the Office of Management and Budget's homepage at www.whitehouse.gov/omb/grants_spoc/.

Funding Restrictions

Grants will only be awarded to those organizations that are eligible under law as described in the eligibility information section.

Other Submission Requirements

For technical assistance with submitting the application, contact the grants.gov customer support hotline at 1-800-518-4726 or via email to support@grants.gov. The grants.gov support hotline hours of operation are 24 hours a day, 7 days a week, except Federal holidays. For assistance with any other requirement of this solicitation, contact Darren Wallace, National Program Coordinator for Grants for Transportation of Veterans in Highly Rural Areas, at (404) 828-5380 (this is not a toll-free number) or by email to Sylvester.Wallace2@va.gov.

Additional forms that may be required in connection with an award are available for download on www.grants.gov. Examples of these forms can be viewed at the grants.gov Web site. For successful applicants, receipt of funds will be contingent upon submission of all necessary forms. Please note in particular the following forms: Certifications Regarding Lobbying; Debarment, Suspension and Other Responsibility Matters; Drug-Free Workplace Requirement; Disclosure of Lobbying Activities (Required for any applicant that expends any funds for lobbying activities; this form must be downloaded, completed, and then uploaded); and Standard Assurances (SF 424B) (Required to be submitted to the VTP Office prior to the receipt of any award funds).

Application Review Information

Criteria

VA is committed to ensuring a fair and open process for awarding these renewal grants. The VTP Office will review the renewal grant application to make sure that the information presented is reasonable, understandable, measurable, and achievable, as well as consistent with the solicitation. Peer reviewers will conduct a threshold review of all applications submitted under this solicitation to ensure they meet all of the critical elements and all other minimum requirements as identified herein. The VTP Office may use either internal peer reviewers, external peer reviewers, or a combination to review the applications under this solicitation. An external peer reviewer is an expert in the field of the subject matter of a given solicitation who is not a current VA employee. An internal reviewer is a current VA employee who is well-versed or has expertise in the subject matter of this solicitation. Eligible applications will then be evaluated, scored, and rated by a peer review panel. Peer reviewers' ratings and any resulting recommendations are advisory only.

VTP Member Services Office conducts a financial review of applications for potential discretionary awards to evaluate the fiscal integrity and financial capability of applicants; examines proposed costs to determine if the Budget Detail Worksheet and Budget Narrative accurately explain project costs; and determines whether costs are reasonable, necessary, and allowable under applicable federal cost principles and agency regulations.

Absent explicit statutory authorization or written delegation of authority to the contrary, the Veterans Health Administration, through the VTP Office, will forward the reviewers' recommendations for award to the Secretary of Veterans Affairs, who will then review and approve each award decision. Such determinations by the Secretary will be final. VA will also give consideration to factors including, but not limited to: Underserved populations, geographic diversity, strategic priorities, and available funding when making awards.

Review and Selection Process: Selection of Renewal Grants for Transportation of Veterans in Highly Rural Areas is very competitive. Listed below are the scoring and selection criteria:

1. Renewal Grant Scoring: Renewal applications will be scored using the following selection criteria:

A. VA will award up to 55 points (an applicant must score at a minimum of 27.5 points) based on the success of the grantee's program, as demonstrated by the following: Application shows that the grantee or identified subrecipient provided transportation services which allowed participants to be provided medical care timely and as scheduled; and application shows that participants were satisfied with the transportation services provided by the grantee or identified subrecipient, as described in the Notice;

B. VA will award up to 35 points (an applicant must score at a minimum of 17.5 points) based on the cost effectiveness of the program, as demonstrated by the following: The grantee or identified subrecipient administered the program on budget and grant funds were utilized in a sensible manner, as interpreted by information provided by the grantee to VA under 38 CFR 17.725(a)(1-7); and

C. VA will award up to 15 (an applicant must score at a minimum of 7.5 points) points based on the extent to which the program complied with the grant agreement and applicable laws and regulations.

2. Renewal Grant Selection: VA will use the following process to award renewal grants:

A. VA will rank those grantees who receive at least the minimum amount of total points (52.5) and points per category set forth in the Notice. The grantees will be ranked in order from highest to lowest scores.

B. VA will use the grantee's ranking as the basis for selection for funding. VA will fund the highest-ranked grantees for which funding is available.

Award Administration Information

Award Notices and Renewal Grant Agreements

After an applicant is selected for a renewal grant in accordance with 38 CFR 17.705(d) and notified as described above, VA will send renewal grant agreement to be executed by the Assistant Deputy Under Secretary for Health for Administrative Operations in VA and the grantee. Upon execution of the renewal grant agreement, VA will obligate the approved amount. Recipients will use the U.S. Department of Health and Human Services Payment Management System for grant drawdowns. Instructions for submitting requests for payment may be found at www.dpm.psc.gov/.

The Grant Agreement will be sent through the U.S. Postal Service to the awardee organization as listed on its SF424. Note that any communication between the VTP Office and awardees prior to the issuance of the Notice of Award (NoA) is not authorization to begin performance on the project.

Unsuccessful applicants will be notified of their status by letter, which will likewise be sent through the U.S. Postal Service to the applicant organization as listed on its SF 424.

The renewal grant agreement will provide that:

1. The grantee must operate the program in accordance with the provisions of this section and the grant application;

2. If a grantee's renewal application identified a subrecipient, such subrecipient must operate the program in accordance with the provisions of this section and the grant application; and

3. If a grantee's application identified that funds will be used to procure or operate vehicles to directly provide transportation services, the following requirements must be met:

A. Title to the vehicles must vest solely in the grantee or in the identified subrecipient or with leased vehicles in an identified lender;

B. The grantee or identified subrecipient must, at a minimum, provide motor vehicle liability insurance for the vehicles to the same extent they would insure vehicles procured with their own funds;

C. All vehicle operators must be licensed in a U.S. State or Territory to operate such vehicles;

D. Vehicles must be safe and maintained in accordance with the manufacturer's recommendations; and

E. Vehicles must be operated in accordance with applicable Department of Transportation regulations concerning transit requirements under the Americans with Disabilities Act.

Administrative and National Policy Requirements

Successful applicants selected for awards must agree to comply with additional applicable legal requirements upon acceptance of an award. (VA strongly encourages applicants to review the information pertaining to these additional requirements prior to submitting a renewal application). As to those additional requirements, we note that while their original grants were subject to additional legal requirements as set forth in 38 CFR parts 43 and 49 those regulatory provisions have since been superseded by the Common Rule governing all Federal Grant Programs. The Common Rule is codified at 2 CFR part 200. Thus, grantees and identified subrecipients awarded renewal grants under the Program must agree as part of their grant agreement to comply with all requirements of the Common Rule, as applicable.

Reporting

Progress Reports

Awardees must agree to cooperate with any VA evaluation of the program and provide required quarterly, annual, and final (at the end of the fiscal year) reports in a form prescribed by VTP. A final report consists of a summation of grant activities which include progress toward goals, financial administration of grant funds, grant administration issues and barriers. Reports are to be submitted electronically. These reports must outline how grant funds were used, describe program progress and barriers, and provide measurable outcomes.

Required quarterly and annual reports must include the following information:

• Record of time expended assisting with the provision of transportation services;

• Record of grant funds expended assisting with the provision of transportation services;

• Trips completed;

• Total distance covered;

• Veterans served;

• Locations which received transportation services; and

• Results of veteran satisfaction survey.

Program Monitoring

VTP is responsible for program monitoring. All awardees will be required to cooperate in providing the necessary data elements to the VTP. The goal of program monitoring is to ensure program requirements are met; this will be accomplished by tracking performance and identifying quality and compliance problems through early detection. Methods of program monitoring may include: Monitoring the performance of a grantee's or sub-recipient's personnel, procurements, and/or use of grant-funded property; collecting, analyzing data, and assessing program implementation and effectiveness; assessing costs and utilization; and providing technical assistance when needed. Site visit monitoring will include the above-described activities, in addition to the conduct of safety assessments and, if applicable, verification of both current driver's licenses and vehicle insurance coverage.

Federal Financial Report

Awardees are required to submit the FFR SF 425 on a quarterly basis. More details will be announced in the NoA.

Audit Requirements

Awardees must comply with the audit requirements of Office of Management and Budget Uniform Guidance 2 CFR part 200 subpart F. Information on the scope, frequency and other aspects of the audits can be found on at www.federalregister.gov/a/2013-30465.

Program Variations

Any changes in a grantee's program activities which result in deviations from the grant renewal agreement must be reported to VA.

Additional Reporting

Additional reporting requirements may be requested by VA to allow VA to fully assess program effectiveness.

Notice of New Post-Award Reporting Requirements

All recipients (excluding an individual recipient of Federal assistance) of awards of $25,000 or more under this solicitation, consistent with the Federal Funding Accountability and Transparency Act of 2006 (FFATA), Public Law 109-282 (Sept. 26, 2006), will be required to report award information on the subaward reporting system of any first-tier subawards totaling $25,000 or more, and, in certain cases, to report information on the names and total compensation of the five most highly compensated executives of the recipient and first-tier subrecipients. Each applicant entity must ensure that it has the necessary processes and systems in place to comply with the reporting requirements should it receive funding.

It is expected that reports regarding subawards will be made through the FFATA Subaward Reporting System (FSRS) found at www.fsrs.gov. The FFATA Subaward Reporting System is the reporting tool Federal prime awardees (i.e. prime contractors and prime grants recipients) use to capture and report subaward and executive compensation data regarding their first-tier subawards to meet the FFATA reporting requirements. Prime contract awardees will report against sub-contracts awarded and prime grant awardees will report against sub-grants awarded. Prime Contractors awarded a Federal contract or order that is subject to Federal Acquisition Regulation clause 52.204-10 (Reporting Executive Compensation and First-Tier Subcontract Awards) are required to file a FFATA subaward report by the end of the month following the month in which the prime contractor awards any subcontract greater than $25,000.

Please note also that no subaward of an award made under this solicitation may be made to a subrecipient that is subject to the terms of FFATA unless the potential subrecipient acquires and provides a DUNS number.

Other Information

Pursuant to 38 CFR 17.730(a), VA may recover from the grantee any funds that are not used in accordance with a grant agreement. If VA decides to recover funds, VA will issue to the grantee a notice of intent to recover grant funds, and the grantee will then have 30 days to submit documentation demonstrating why the grant funds should not be recovered. After review of all submitted documentation, VA will determine whether action will be taken to recover the grant funds. When VA determines action will be taken to recover grant funds from the grantee, the grantee is then prohibited under 38 CFR 17.730(b) from receiving any further grant funds.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on July 11, 2017, for publication.

Dated: July 14, 2017.
Michael Shores,
Director, Regulation Policy & Management, Office of the Secretary, Department of Veterans Affairs.

[FR Doc. 2017-15167 Filed 7-18-17; 8:45 am]

BILLING CODE 8320-01-P